DEPARTMENT OF THE INTERIOR

National Park Service

Notice of Inventory Completion: New York University College of Dentistry, New York, NY

AGENCY: National Park Service, Interior.

ACTION: Notice.

Notice is here given in accordance with the Native American Graves Protection and Repatriation Act (NAGPRA), 25 U.S.C. 3003, of the completion of an inventory of human remains in the possession and control of the New York University College of Dentistry, New York, NY. The human remains were removed from Lovelock Cave, Churchill County, NV.

This notice is published as part of the National Park Service's administrative responsibilities under NAGPRA, 25 U.S.C. 3003(d)(3). The determinations in this notice are the sole responsibility of the museum, institution, or Federal agency that has control of the Native American human remains. The National Park Service is not responsible for the determinations in this notice.

A detailed assessment of the human remains was made by the New York University College of Dentistry professional staff in consultation with representatives of the Fort McDermitt Paiute and Shoshone Tribes of the Fort McDermitt Indian Reservation, Nevada and Oregon; Lovelock Paiute Tribe of the Lovelock Indian Colony, Nevada; Paiute-Shoshone Tribe of the Fallon Reservation and Colony, Nevada; Pyramid Lake Paiute Tribe of the Pyramid Lake Reservation, Nevada; Reno-Sparks Indian Colony, Nevada; Walker River Paiute Tribe of the Walker River Reservation, Nevada; and Yerington Paiute Tribe of the Yerington Colony & Campbell Ranch, Nevada.

In 1924, human remains representing a minimum of one individual were removed from Lovelock Cave, Churchill County, NV. The remains were removed by M.R. Harrington during excavations jointly conducted by the Museum of the American Indian, Heye Foundation, and the University of California, Berkeley. In 1956, the remains were transferred to Dr. Theodore Kazamiroff, New York University College of Dentistry. No known individual was identified. No associated funerary objects are present.

The remains date to the Early Lovelock I Phase occupation of the cave, circa 2500-1500 B.C. The morphology of the remains is consistent with an individual of Native American ancestry. Archeological, linguistic, and oral tradition evidence indicate that different groups of people occupied the region over time. By at least A.D. 1500, Lovelock Cave was part of the territory of the Northern Paiute. The Lovelock Paiute Tribe of the Lovelock Indian Colony, Paiute-Shoshone Tribe of the Fallon Reservation and Colony, Pyramid Lake Paiute Tribe of the Pyramid Lake Reservation, and Walker River Paiute Tribe of the Walker River Reservation, identify the region surrounding Lovelock Cave as part of their traditional homeland.

Officials of the New York University College of Dentistry have determined that, pursuant to 25 U.S.C. 3001(9), the human remains described above represent the physical remains of one individual of Native American ancestry. Officials of the New York University College of Dentistry also have determined that, pursuant to 25 U.S.C. 3001(2), a relationship of shared group identity cannot reasonably be traced between the Native American human remains and any present-day Indian tribe.

The Native American Graves Protection and Repatriation Review Committee (Review Committee) is responsible for recommending specific actions for disposition of culturally unidentifiable human remains. In July 2009, the New York University College of Dentistry requested that the Review Committee recommend disposition of the culturally unidentifiable human remains of one individual to the Paiute-Shoshone Tribe of the Fallon Reservation and Colony, Nevada, on behalf of a coalition of tribes in the Great Basin region. The Review Committee considered the proposal at its October 30-31, 2009, meeting and recommended disposition of the human remains to the Paiute-Shoshone Tribe of the Fallon Reservation and Colony, Nevada.

A March 4, 2010, letter from the Designated Federal Official, writing on behalf of the Secretary of the Interior, transmitted the authorization for the College to effect disposition of the human remains to the Paiute-Shoshone Tribe of the Fallon Reservation and Colony, Nevada, contingent on the publication of a Notice of Inventory Completion in the Federal Register. This notice fulfills that requirement.

Representatives of any other Indian tribe that believes itself to be culturally affiliated with the human remains should contact Dr. Louis Terracio, New York University College of Dentistry, 345 East 24th St., New York, NY 10010, telephone (212) 998-9917, before July 12, 2010. Disposition of the human remains to the Paiute-Shoshone Tribe of the Fallon Reservation and Colony, Nevada, may proceed after that date if no additional claimants come forward.

The New York University College of Dentistry is responsible for notifying the Fort McDermitt Paiute and Shoshone Tribes of the Fort McDermitt Indian Reservation, Nevada and Oregon; Lovelock Paiute Tribe of the Lovelock Indian Colony, Nevada; Paiute-Shoshone Tribe of the Fallon Reservation and Colony, Nevada; Pyramid Lake Paiute Tribe of the Pyramid Lake Reservation, Nevada; Reno-Sparks Indian Colony, Nevada; Walker River Paiute Tribe of the Walker River Reservation, Nevada; and Yerington Paiute Tribe of the Yerington Colony & Campbell Ranch, Nevada, that this notice has been published.

Dated: April 27, 2010
David Tarler,
Acting Manager, National NAGPRA Program.

[FR Doc. 2010-14041 Filed 6-10-10; 8:45 am]

BILLING CODE 4312-50-S